DEPARTMENT OF TRANSPORTATION

Surface Transportation Board

[Docket No. FD 35974 (Sub-No. 1)]

Union Pacific Railroad Company—Temporary Trackage Rights Exemption—BNSF Railway Company

AGENCY: Surface Transportation Board, DOT.

ACTION: Partial revocation of exemption.

SUMMARY: Under 49 U.S.C. 10502, the Board revokes the class exemption as it pertains to the overhead trackage rights described in Docket No. FD 35974 ¹ to permit the trackage rights to expire on December 31, 2018, as provided in the parties' underlying temporary trackage rights agreement, subject to the employee protective conditions set forth in Oregon Short Line Railroad—Abandonment Portion Goshen Branch Between Firth & Ammon, in Bingham & Bonneville Counties, Idaho, 360 I.C.C. 91 (1979).

¹ In that docket, on November 3, 2015, Union Pacific Railroad Company (UP) filed a Verified Notice of Exemption under the Board's class exemption procedures at 49 CFR 1180.2(d)(7). The notice addressed an agreement between UP and the BNSF Railway Company (BNSF) that is intended to grant UP overhead temporary trackage rights until December 31, 2018, to operate between milepost 579.3 near Mill Creek, Okla., on BNSF's Creek Subdivision and milepost 631.0 near Joe Junction, Tex., on BNSF's Madill Subdivision, a distance of approximately 51.7 miles. UP stated that because the temporary trackage rights are longer than a year in duration, the Board's class exemption for temporary trackage rights under 49 CFR 1180.2(d)(8) does not apply. Instead, UP concurrently filed a Petition for Partial Revocation in this sub-docket. Notice of exemption was served and published in the Federal Register on November 19, 2015 (80 FR 72,486). That notice indicated that the Board would address the Petition for Partial Revocation in a separate decision, which it is doing here and in the Board's decision served today in this sub-docket.

DATES: This decision is effective on January 21, 2016. Petitions to stay must be filed by January 4, 2016. Petitions for reconsideration must be filed by January 11, 2016.

ADDRESSES: Send an original and 10 copies of all pleadings, referring to Docket No. FD 35974 (Sub-No. 1) to: Surface Transportation Board, 395 E Street SW., Washington, DC 20423-0001. In addition, a copy of each pleading must be served on Jeremy M. Berman, Union Pacific Railroad Company, 1400 Douglas Street, STOP 1580, Omaha, NE 68179.

FOR FURTHER INFORMATION CONTACT: Jessica Caine (202) 245-0392. [Assistance for the hearing impaired is available through the Federal Information Relay Service (FIRS) at 1-800-877-8339.]

SUPPLEMENTARY INFORMATION: Additional information is contained in the Board's decision. Board decisions and notices are available on our Web site at “WWW.STB.DOT.GOV.”

Decided: December 15, 2015.
By the Board, Chairman Elliott, Vice Chairman Begeman, and Commissioner Miller.
Kenyatta Clay,
Clearance Clerk.

[FR Doc. 2015-32166 Filed 12-21-15; 8:45 am]

BILLING CODE 4915-01-P